COMMITTEE FOR PURCHASE FROM PEOPLE WHO ARE BLIND OR SEVERELY DISABLED

Procurement List; Additions and Deletion

AGENCY: Committee for Purchase From People Who are Blind or Severely Disabled.

ACTION: Additions to and deletions from Procurement List.

SUMMARY: This action adds to the Procurement List products to be furnished by nonprofit agencies employing persons who are blind or have other severe disabilities, and deletes from the Procurement List a product previously furnished by such agencies.

EFFECTIVE DATE: November 20, 2005.

ADDRESSES: Committee for Purchase From People Who are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or email SKennerly@jwod.gov.

SUPPLEMENTARY INFORMATION:

Additions

On August 19, and August 26, 2005, the Committee for Purchase From People Who are Blind or Severely Disabled published notice (70 FR 48667, and 50299) of proposed additions to the Procurement List.

The following comments pertain to Stamp 2000 Plus and Accustamp 7520-00-419-5949 & 7529-01-324-6955:

Comments were received from 21 persons in support of the nonprofit agency, urging addition of these products to the Procurement List, as they consider the addition to be critical to the nonprofit agency's plan to expand services for people with disabilities. The Committee agrees with these commenters that this addition will create jobs for such people.

Comments were also received from one of the current contractors for these stamps. The commenter claimed that the stamps the nonprofit agency will be providing under the Committee's program are made in China, as opposed to the stamps the commenter assembles in the U.S. from components made in Japan and China, and that the Committee should not permit its program to displace U.S. products with Chinese products. The commenter claimed that it has been a Government supplier of the stamps for over 30 years, and has become reliant on these sales, which constitute a small minority of its total sales. The same contractor claimed the nonprofit agency's stamps are inferior to its own. The commenter asked the Committee to consider whether it could create more jobs by having workers with disabilities package the commenter's stamps rather than those it intends to produce.

Contrary to the commenter's claims, the nonprofit agency will be using its employees with severe disabilities to assemble and package the stamps in the U.S. from components made in Austria, which is a designated country under the Trade Agreements Act, 19 U.S.C. 2501 et seq. Like the workers they may displace, the persons with severe disabilities who will produce the stamps are U.S. workers, but with an unemployment rate which is well above other groups, so the Committee believes that creating jobs for them, which is the mission of the Committee's program, is justified in this situation.

The commenter, which claimed a long-term reliance on Government sales of these stamps, failed to provide the Committee with total sales data which would enable the Committee to assess the severity of impact of this Procurement List addition, despite being cautioned that the Committee would interpret a failure to provide data as an indication that the contractor did not consider the impact severe. As for the commenter's claim that the nonprofit agency's stamps are inferior, the nonprofit agency has shown the Committee that its stamps meet Government specifications. At this time, it is not feasible for the Committee to require the nonprofit agency to replace its stamp component supplier, as the commenter suggests.

The following comments pertain to Stamp Pad Ink and Accustamp (Applies to all other identified stamp NSNs not listed above:

Comments were received from 21 persons in support of the nonprofit agency, urging addition of these products to the Procurement List, as they consider the addition to be critical to the nonprofit agency's plan to expand services for people with disabilities. The Committee agrees with these commenters that this addition will create jobs for such people.

Comments were also received from a stamp manufacturer. The commenter claimed that the stamps the nonprofit agency will be providing under the Committee's program are made in China, as opposed to the stamps the commenter assembles in the U.S. from components made in Japan and China, and that the Committee should not permit its program to displace U.S. products with Chinese products. The commenter claimed that it has been a Government supplier of the stamps for over 30 years, and has become reliant on these sales, which constitute a small minority of its total sales. The same contractor claimed the nonprofit agency's stamps are inferior to its own. The commenter asked the Committee to consider whether it could create more jobs by having workers with disabilities package the commenter's stamps rather than those it intends to produce.

Contrary to the commenter's claims, the nonprofit agency will be using its employees with severe disabilities to assemble and package the stamps in the U.S. from components made in Austria, which is a designated country under the Trade Agreements Act, 19 U.S.C. 2501 et seq. Like the workers they may displace, the persons with severe disabilities who will produce the stamps are U.S. workers, but with an unemployment rate which is well above other groups, so the Committee believes that creating jobs for them, which is the mission of the Committee's program, is justified in this situation.

The commenter, which claimed a long-term reliance on Government sales of these stamps, failed to provide the Committee with total sales data which would enable the Committee to assess the severity of impact of this Procurement List addition, despite being cautioned that the Committee would interpret a failure to provide data as an indication that the contractor did not consider the impact severe. As for the commenter's claim that the nonprofit agency's stamps are inferior, the nonprofit agency has shown the Committee that its stamps meet Government specifications. At this time, it is not feasible for the Committee to require the nonprofit agency to replace its stamp component supplier, as the commenter suggests.

The following material pertains to all of the items being added to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Product/NSN: Accustamp (For GSA Global Supply ONLY).

NSN: 7520-01-207-4108—COPY—Red.

NSN: 7520-01-207-4116—DRAFT—Red.

NSN: 7520-01-207-4226—RECEIVED—Blue.

NSN: 7520-01-207-4119—SECRET—Red.

NSN: 7520-00-264-3718—Rubber Stamp Printing Set.

NSN: 7520-01-207-4111—COMPLETED—Red.

NSN: 7520-01-324-6955—COMPLETED—Blue.

NSN: 7520-01-419-5949—CONFIDENTIAL—Red.

Product/NSN: Custom Stamp (For GSA Global Supply ONLY).

NSN: 7510-00-386-2444—Custom Stamps.

Product/NSN: Stamp 2000 Plus (For GSA Global Supply ONLY).

NSN: 7520-01-352-3019—Black.

NSN: 7520-01-352-3018—Red.

Product/NSN: Stamp Pad Ink (For GSA Global Supply ONLY).

NSN: 7510-00-782-6257—Black 8 oz.

NSN: 7510-00-161-4240—Red 2 oz/roll-on.

NSN: 7510-01-316-7516—Black 2 oz/roll-on.

NSN: 7510-00-161-4237—Black 2 oz/roll-on.

NPA: The Arbor School, Houston, Texas.

Contracting Activity: Office Supplies & Paper Products Acquisition Center, New York, NY.

Product/NSN: Shirt, Woman's, Short Sleeve, Tuck-in.

NSN: 8410-01-414-6979—4 Regular.

NSN: 8410-01-414-6980—6 Regular.

NSN: 8410-01-414-6981—8 Regular.

NSN: 8410-01-414-7023—10 Regular.

NSN: 8410-01-414-7105—12 Regular.

NSN: 8410-01-414-7113—14 Regular.

NSN: 8410-01-414-7116—16 Regular.

NSN: 8410-01-414-7118—18 Regular.

NSN: 8410-01-414-7120—20 Regular.

NSN: 8410-01-414-7186—22 Regular.

NSN: 8410-01-414-7232—24 Regular.

NSN: 8410-01-414-7233—26 Regular.

NPA: Middle Georgia Diversified Industries, Inc., Dublin, Georgia.

Contracting Activity: Defense Supply Center Philadelphia, Philadelphia, Pennsylvania.

Deletion

On August 26, 2005, the Committee for Purchase From People Who are Blind or Severely Disabled published notice (70 FR 50299) of proposed deletion to the Procurement List.

After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Product/NSN: Pencil, Mechanical.

NSN: 7520-00-724-5606—Pencil, Mechanical.

NPA: San Antonio Lighthouse, San Antonio, Texas.

Contracting Activity: Office Supplies & Paper Products Acquisition Center, New York, NY.

Sheryl D. Kennerly,
Director, Information Management.

[FR Doc. E5-5799 Filed 10-20-05; 8:45 am]

BILLING CODE 6353-01-P